DEPARTMENT OF TRANSPORTATION

Surface Transportation Board

[STB Finance Docket No. 34810]

Washington County, OR—Acquisition Exemption—Certain Assets of the Union Pacific Railroad Company

Washington County, OR (County), a noncarrier, has filed a verified notice of exemption under 49 CFR 1150.31 to acquire from Union Pacific Railroad Company (UP) certain right-of-way and trackage, totaling approximately 5 miles, in Washington County. The rail line (the Subject Line) extends between milepost 749.95 in Tigard and milepost 755.43 in Beaverton.¹

¹ In STB Finance Docket No. 34791, Tri-County Metropolitan Transportation District of Oregon—Acquisition Exemption—Certain Assets of Washington County, OR, Tri-County Metropolitan Transportation District of Oregon (TriMet) has simultaneously filed a verified notice of exemption to acquire County's interests in the Subject Line. County and TriMet have also filed a joint motion to dismiss their notices on jurisdictional grounds. That request will be handled in a separate Board decision.

County certifies that its projected annual revenues as a result of the transaction will not exceed those that would qualify it as a Class III rail carrier. The parties state that they intended to consummate this transaction on or before November 27, 2006. Whether or not the parties will be able to consummate by that date depends upon receipt of favorable Board action on several related requests.

County states that it will acquire UP's right, title and interest in the right-of-way, trackage and other physical assets associated with the Subject Line, but will not acquire the right or obligation to conduct any rail freight operations thereon. UP will retain an exclusive, permanent easement for freight operations, but will transfer the easement to Portland & Western Railroad, Inc. (P&W), which will conduct freight operations on the Subject Line.²

² P&W currently provides freight rail service on the Subject Line pursuant to a lease with UP. On October 27, 2006, P&W filed a notice to acquire UP's easement. STB Finance Docket No. 34792, Portland & Western Railroad, Inc.—Acquisition and Operation Exemption—Union Pacific Railroad Company.

If the notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34791, must be filed with the Surface Transportation Board, 1925 K Street, NW., Washington, DC 20423-0001. In addition, a copy of each pleading must be served on Janie Sheng, 1601 K Street, NW., Washington, DC 20006.

Board decisions and notices are available on our Web site at http://www.stb.dot.gov.

Decided: November 22, 2006.
By the Board, David M. Konschnik, Director, Office of Proceedings.
Vernon A. Williams,
Secretary.

[FR Doc. E6-20244 Filed 11-30-06; 8:45 am]

BILLING CODE 4915-01-P